FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicants

General Express Freight, Inc., 9660 Flair Drive, Suite 423, El Monte, CA 91731. Officer: Zhiquan He, President (Qualifying Individual).

PAB Shipping Inc. dba PAB Maritime Services, 159 N. Courtland Street, East Stroudsburg, PA 18301. Officer: Pierangelo Bonati, President (Qualifying Individual).

H & T Shipping, Inc., 7771 Garvey Avenue, #D, Rosemead, CA 91770. Officer: Nick Vuong, President (Qualifying Individual).

BK Global Logistics Inc., 147-55 175th Street, Suite 102, Jamaica, NY 11434. Officer: Byeong Keun Yoo, President (Qualifying Individual).

Non-Vessel—Operating Common Carrier and Ocean Freight Forwarder Transportation Intermediary Applicants

Air-Sea Container Line, Inc., 167-10 South Conduit Avenue, Rm. 208, Jamaica, NY 11434. Officers: Scott S.F. Wang, President (Qualifying Individual), Nancy Yang Wang, Treasurer.

Pelorus, Inc. dba PS Line dba PFS Global, 2100 Watrous Avenue, Tampa, FL 33606-3047. Officers: William J. Kuzmick, Officer, Carlos Salazar Brehm, Officer (Qualifying Individuals).

B.F. Shipping, 10800 NW 29th Street, Doral, FL 33172. Officers: Alberto Blest, President (Qualifying Individual), Lidice Fernandez, Vice President.

Orion Freight Forwarders, Inc., 450 SE 7th Street, Unit #273, Dania Beach, FL 33004. Officers: Roylene Rogers, Vice President (Qualifying Individual), Adolfo DeVivo, President.

New Life Healthcare Services LLC dba New Life Marine Services, 9150 Main Street, Suite C, Houston, TX 77025. Officers: Henry C. Onyekwere, Managing Director (Qualifying Individual), Theresa A. Onyekwere, Manager.

Senadurna Freight Forwarders, 7778 NW 46 Street, Miami, FL 33166. Officer: Jorge Eseribani, Ocean Manager (Qualifying Individual).

Caribbean Shipping Agencies, Inc., 10180 S.W. 88 Street, #405, Miami, FL 33176. Officer: Barry Antoni, President (Qualifying Individual).

Ocean Freight Forwarder—Ocean Transportation Intermediary Applicant

Trust Express (LAX) Inc., 8915 S. La Cienega Blvd., #A, Inglewood, CA 90301. Officers: Alan Hua, President (Qualifying Individual), Kailing Hua, Vice President.

Dated: February 25, 2005.
Bryant L. VanBrakle,
Secretary.

[FR Doc. 05-4026 Filed 3-1-05; 8:45 am]

BILLING CODE 6730-01-P